DEPARTMENT OF ENERGY

Federal Energy Regulatory Commission

[Docket No. CP02-417-001]

Colorado Interstate Gas Company; Notice of Compliance Filing

March 26, 2003.

Take notice that on March 21, 2003, Colorado Interstate Gas Company (CIG) tendered for filing as part its FERC Gas Tariff, the following tariff sheets, with an effective date of March 1, 2003:

First Revised Volume No. 1

Twenty-Third Revised Sheet No. 10

Ninth Revised Sheet No. 12

Sixth Revised Sheet No. 225

Third Revised Sheet No. 378

Third Revised Sheet No. 379

Original Volume No. 2

Ninth Revised Sheet No. 1

Second Revised Sheet No. 68

CIG states these tariff sheets are being filed in compliance with the Commission's December 26, 2002 Order to implement the pro forma tariff provisions contained in CIG's July 1, 2002 gathering abandonment proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 2, 2003.

Magalie R. Salas,
Secretary.

[FR Doc. 03-7862 Filed 4-1-03; 8:45 am]

BILLING CODE 6717-01-P